DEPARTMENT OF DEFENSE

Office of the Secretary

[Docket ID: DoD-2024-OS-0139]

Proposed Collection; Comment Request

AGENCY: Washington Headquarters Services (WHS), Department of Defense (DoD).

ACTION: 60-Day information collection notice.

SUMMARY: In compliance with the Paperwork Reduction Act of 1995, the Washington Headquarters Services (WHS) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 25, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Secretary of Defense, 4800 Mark Center Drive Ste. 02F09-02 Alexandria, VA 22350-1700, Ronald McCully, 571-372-0473.

SUPPLEMENTARY INFORMATION:

Title; Associated Form; and OMB Number: Separating Personnel Records Accountability Checklist—Transfer of Records Between DoD/OSD Components; SD Form 833; OMB Control Number 0704-SRAC.

Needs and Uses: This form is needed to ensure records and information created and received by employees, Service members, and contract personnel departing or transferring from a WHS-serviced Component are preserved in appropriate locations or transferred to appropriate Record and Information Management personnel.

Affected Public: Contractors.

Annual Burden Hours: 250.

Number of Respondents: 50.

Responses per Respondent: 1.

Annual Responses: 50.

Average Burden per Response: 5 hours.

Frequency: As required.

Dated: December 18, 2024.
Stephanie J. Bost,
Alternate OSD Federal Register Liaison Officer, Department of Defense.

[FR Doc. 2024-30893 Filed 12-26-24; 8:45 am]

BILLING CODE 6001-FR-P